DEPARTMENT OF THE INTERIOR

National Park Service

[NPS-WASO-NAGPRA-NPS0032456; PPWOCRADN0-PCU00RP14.R50000]

Notice of Inventory Completion: U.S. Department of the Interior, Bureau of Indian Affairs, Washington, DC, and Pueblo Grande Museum, City of Phoenix, AZ

AGENCY: National Park Service, Interior.

ACTION: Notice.

SUMMARY: The U.S. Department of the Interior, Bureau of Indian Affairs (BIA), assisted by the Pueblo Grande Museum (PGM), has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the BIA through the PGM. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the BIA through the PGM at the address in this notice by September 24, 2021.

FOR FURTHER INFORMATION CONTACT: Lindsey Vogel-Teeter, Pueblo Grande Museum, 4619 E Washington Street, Phoenix, AZ 85034, telephone (602) 534-1572, email lindsey.vogel-teeter@phoenix.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC, and in the physical custody of the Pueblo Grande Museum, City of Phoenix, AZ. The human remains and associated funerary objects were removed from locations within the boundaries of the Gila River Indian Reservation, Maricopa and Pinal Counties, AZ, and the Salt River Reservation, Maricopa County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by BIA and PGM professional staff in consultation with representatives of the Gila River Indian Community of the Gila River Indian Reservation, Arizona; Hopi Tribe of Arizona; and the Salt River Pima-Maricopa Indian Community of the Salt River Reservation, Arizona.

History and Description of the Remains

In December of 1939, human remains representing, at minimum, seven individuals were removed from site AZ T:12:3(PGM)/AZ T:12:9(ASM)/SRVSS Site 6/Villa Buena, located within the boundaries of the Gila River Indian Reservation, Maricopa County, AZ, by personnel from the Salt River Valley Stratigraphic Survey (SRVSS) working out of PGM. These excavations were permitted by the U.S. Department of the Interior. The human remains have been housed in the collections of PGM since they were excavated. Some of them were not identified until 2018, when they were encountered during a review of the faunal collection. The human remains represent two inhumations and five cremations. The decedents range in age from child to adult and all are of indeterminate sex. No known individuals were identified. The 16 associated funerary objects are one miniature red-on-buff jar, one palette, one shell bracelet fragment, two turquoise fragments, one burnt daub fragment, one burnt insect nest, two lots of faunal bone, six lots of shell and/or botanicals, and one lot of stone and shell.

Site AZ T:12:3(PGM)/AZ T:12:9(ASM)/SRVSS Site 6/Villa Buena contained ballcourts, house mounds, and a compound. Based on ceramic types and architectural forms present, the site was likely occupied during the Sweetwater-Civano phases of the Hohokam cultural sequence (A.D. 550-1450).

In October of 1939, human remains representing, at minimum, three individuals were removed from site AZ U:9:15(PGM)/AZ U:9:13(ASM)/SRVSS Site 23, located within the boundaries of the Salt River Indian Reservation, Maricopa County, AZ, by personnel from the SRVSS working out of PGM. These excavations were permitted by the U.S. Department of the Interior. The human remains have been housed in the collections of PGM since they were excavated. The human remains represent two inhumations and one cremation. The decedents range in age from adolescent to old adult and all are of indeterminate sex. No known individuals were identified. The 10 associated funerary objects are two shell ornaments, one lot of shell fragments, two lots of faunal bones, one polishing stone, and four lots containing plainware and buffware sherds.

Site AZ U:9:15(PGM)/AZ U:9:13(ASM)/SRVSS Site 23 contained trash mounds, burials, and a canal. Based on ceramic types present, the site was likely occupied during the Estrella-Civano phases of the Hohokam cultural sequence (A.D. 450-1450).

In November of 1939, human remains representing, at minimum, one individual were removed from site AZ U:9:16(PGM)/SRVSS Site 24, located within the boundaries of the Salt River Indian Reservation, Maricopa County, AZ, by personnel from the SRVSS working out of PGM. These excavations were permitted by the U.S. Department of the Interior. The human remains have been housed in the collections of PGM since they were excavated. They were not identified until 2018, when they were encountered during a review of the faunal collection. The fragmentary remains belong to a middle-aged adult of indeterminate sex. No known individual was identified. No associated funerary objects are present.

Site AZ U:9:16(PGM)/SRVSS Site 24 contained a compound, a house mound, trash mounds, and a burial area. Based on material culture and architectural forms present, the site was likely occupied during the Estrella-Civano phases of the Hohokam cultural sequence (A.D. 450-1450). There is also evidence for later occupation during historic times (A.D. 1800-1939).

In March of 1939, human remains representing, at minimum, two individuals were removed from site AZ U:9:14(ASM)/SRVSS Site 25, located within the boundaries of the Salt River Indian Reservation, Maricopa County, AZ, by personnel from the SRVSS working out of PGM. These excavations were permitted by the U.S. Department of the Interior. The human remains have been housed in the collections of PGM since they were excavated. They were not identified until 2021, when they were encountered during a review of the faunal collection. The fragmentary remains belong to a child and an adult; both are of indeterminate sex. No known individuals were identified. No associated funerary objects are present.

Site AZ U:9:14(ASM)/SRVSS Site 25 contained a compound, a house mound, a trash mound, and burial areas. Based on ceramic types and architectural forms present, the site was likely occupied during the Santa Cruz-Civano phases of the Hohokam cultural sequence (A.D. 800-1450).

In May of 1939, human remains representing, at minimum, one individual were removed from site AZ U:9:28(PGM)/SRVSS Site 62, located within the boundaries of the Salt River Indian Reservation, AZ, by personnel from the SRVSS working out of PGM. These excavations were permitted by the U.S. Department of the Interior. The human remains have been housed in the collections of PGM since they were excavated. They were not identified until 2018, when they were encountered during a review of the faunal collection. The individual fragmentary remains belong to an adult of indeterminate sex. No known individual was identified. No associated funerary objects are present.

Site AZ U:9:28(PGM)/SRVSS Site 62 contained house mounds, trash mounds, and possibly a ballcourt. Based on ceramic types present, the site was likely occupied during the Santa Cruz-Sacaton phases of the Hohokam cultural sequence (A.D. 800-1150).

In January of 1940, human remains representing, at minimum, one individual were removed from site AZ U:9:35(PGM)/SRVSS Site 95, located within the boundaries of the Gila River Indian Reservation, AZ, by personnel from the SRVSS working out of PGM. These excavations were permitted by the U.S. Department of the Interior. The human remains have been housed in the collections of PGM since they were excavated. They were not identified until 2021, when they were encountered during a review of the faunal collection. The fragmentary remains belong to an adult of indeterminate sex. No known individual was identified. The two associated funerary objects are one palette and one figurine.

Site AZ U:9:35(PGM)/SRVSS Site 95 contained trash mounds and cremation areas. Based on ceramic types present, the site was likely occupied during the Sweetwater-Sacaton phases of the Hohokam cultural sequence (A.D. 550-1150).

In 1963, human remains representing, at minimum, one individual were removed by a citizen from the “Snaketown area,” which most likely is site AZ U:13:1(ASM), located within the boundaries of the Gila River Indian Reservation, Maricopa County, AZ. The human remains and an associated funerary object were transferred to PGM sometime prior to 1995. The human remains have been housed in the collections of PGM since they were excavated. They were not identified until 2018, when they were encountered during a review of the faunal collection. The fragmentary remains belong to an adult of indeterminate sex. No known individual was identified. The one associated funerary object is one lot of mixed shell and lithics.

Site AZ U:13:1(ASM) was a large village containing canals, plazas, ballcourts, house groups, and a caliche-capped mound. Based on ceramic types, architectural forms, and other material culture attributes present, the site was likely occupied during the Snaketown-Sacaton phases of the Hohokam cultural sequence (A.D. 600-1150).

The Ak-Chin Indian Community [previously listed as Ak Chin Indian Community of the Maricopa (Ak Chin) Indian Reservation, Arizona]; Gila River Indian Community of the Gila River Indian Reservation, Arizona; Salt River Pima-Maricopa Indian Community of the Salt River Reservation, Arizona; and the Tohono O'odham Nation of Arizona comprise one cultural group known as the O'odham. Cultural continuity between the prehistoric Hohokam archeological culture and present-day O'odham peoples is supported by continuities in settlement pattern, architectural technologies, basketry, textiles, ceramic technology, and ritual practices. Oral traditions that are documented for the Ak-Chin Indian Community [previously listed as Ak Chin Indian Community of the Maricopa (Ak Chin) Indian Reservation, Arizona]; Gila River Indian Community of the Gila River Indian Reservation, Arizona; Salt River Pima-Maricopa Indian Community of the Salt River Reservation, Arizona; and the Tohono O'odham Nation of Arizona support their cultural affiliation with Hohokam archeological sites in central and southern Arizona.

The Hopi Tribe of Arizona considers all of Arizona to be within traditional Hopi lands or within areas where Hopi clans migrated in the past. Oral traditions and material culture that are documented for the Hopi Tribe support their cultural affiliation with Hohokam sites in central and southern Arizona. Several Hopi clans and religious societies are derived from ancestors who migrated from the south, and likely identified with the Hohokam archeological culture.

Migration from portions of the Southwest to present-day Zuni are documented in the oral traditions of kivas, priesthoods, and medicine societies of the Zuni Tribe of the Zuni Reservation, New Mexico. These traditions support their affiliation with the central and southern Arizona Hohokam archeological culture. Historical linguistic analysis also suggests interaction between ancestral Zuni and Uto-Aztecan speakers during the late Hohokam period.

Determinations Made by the U.S. Department of the Interior, Bureau of Indian Affairs, Joined by the Pueblo Grande Museum, City of Phoenix

Officials of the U.S. Department of the Interior, Bureau of Indian Affairs, joined by Pueblo Grande Museum, have determined that:

• Pursuant to 25 U.S.C. 3001(9), the human remains described in this notice represent the physical remains of 16 individuals of Native American ancestry.

• Pursuant to 25 U.S.C. 3001(3)(A), the 29 objects described in this notice are reasonably believed to have been placed with or near individual human remains at the time of death or later as part of the death rite or ceremony.

• Pursuant to 25 U.S.C. 3001(2), there is a relationship of shared group identity that can be reasonably traced between the Native American human remains and associated funerary objects and the Ak-Chin Indian Community [previously listed as Ak Chin Indian Community of the Maricopa (Ak Chin) Indian Reservation, Arizona]; Gila River Indian Community of the Gila River Indian Reservation, Arizona; Hopi Tribe of Arizona, Salt River Pima-Maricopa Indian Community of the Salt River Reservation, Arizona; Tohono O'odham Nation of Arizona; and the Zuni Tribe of the Zuni Reservation, New Mexico (hereafter referred to as “The Tribes”).

Additional Requestors and Disposition

Lineal descendants or representatives of any Indian Tribe or Native Hawaiian organization not identified in this notice that wish to request transfer of control of these human remains and associated funerary objects should submit a written request with information in support of the request to Lindsey Vogel-Teeter, Pueblo Grande Museum, 4619 E Washington Street, Phoenix, AZ 85034, telephone (602) 534-1572, email lindsey.vogel-teeter@phoenix.gov, by September 24, 2021. After that date, if no additional requestors have come forward, transfer of control of the human remains and associated funerary objects to The Tribes may proceed.

The U.S. Department of the Interior, Bureau of Indian Affairs, assisted by the Pueblo Grande Museum, is responsible for notifying The Tribes that this notice has been published.

Dated: August 11, 2021.
Melanie O'Brien,
Manager, National NAGPRA Program.

[FR Doc. 2021-18268 Filed 8-24-21; 8:45 am]

BILLING CODE 4312-52-P